DEPARTMENT OF TRANSPORTATION

Surface Transportation Board

[STB Ex Parte No. 290 (Sub No. 5) (2001-3)]

Quarterly Rail Cost Adjustment Factor

AGENCY: Surface Transportation Board.

ACTION: Approval of rail cost adjustment factor.

SUMMARY: The Board has approved the third quarter 2001 rail cost adjustment factor (RCAF) and cost index filed by the Association of American Railroads. The third quarter 2001 RCAF (Unadjusted) is 1.079. The third quarter 2001 RCAF (Adjusted) is 0.585. The third quarter 2001 RCAF-5 is 0.562.

EFFECTIVE DATE: July 1, 2001.

FOR FURTHER INFORMATION CONTACT: H. Jeff Warren, (202) 565-1533. Federal Information Relay Service (FIRS) for the hearing impaired: 1-800-877-8339.

SUPPLEMENTARY INFORMATION: Additional information is contained in the Board's decision. To purchase a copy of the full decision, write to, call, or pick up in person from: DA· TO· DA OFFICE SOLUTIONS, Suite 405, 1925 K Street, NW., Washington, DC 20423-0001, telephone (202) 293-7776. [Assistance for the hearing impaired is available through FIRS: 1-800-877-8339.]

This action will not significantly affect either the quality of the human environment or energy conservation.

Pursuant to 5 U.S.C. 605(b), we conclude that our action will not have a significant economic impact on a substantial number of small entities within the meaning of the Regulatory Flexibility Act.

Decided: June 19, 2001.
By the Board, Chairman Morgan, Vice Chairman Clyburn, and Commissioner Burkes.
Vernon A. Williams,
Secretary.

[FR Doc. 01-15890 Filed 6-22-01; 8:45 am]

BILLING CODE 4915-00-P